CONSUMER PRODUCT SAFETY COMMISSION

[Docket No. CPSC-2013-0005]

Agency Information Collection Activities; Submission for Office of Management and Budget Review; Comment Request; Registration Card Effectiveness Survey

AGENCY: Consumer Product Safety Commission.

ACTION: Notice.

SUMMARY: The Consumer Product Safety Commission (CPSC or Commission) is announcing that a proposed collection of information regarding a survey on the effectiveness of product registration cards in facilitating product recalls has been submitted to the Office of Management and Budget (OMB) for review and clearance under the Paperwork Reduction Act of 1995.

DATES: Fax or email written comments on the collection of information by June 12, 2013.

ADDRESSES: Written comments should be faxed to the Office of Information and Regulatory Affairs, OMB, Attn: CPSC Desk Officer, FAX: 202-395-6974, or emailed to: oira_submission@omb.eop.gov. All comments should be identified by Docket No. CPSC-2013-0005. In addition, written comments also should be submitted at: http://www.regulations.gov, under Docket No. CPSC-2013-0005, or by mail/hand delivery/courier (for paper, disk, or CD-ROM submissions), preferably in five copies, to: Office of the Secretary, U.S. Consumer Product Safety Commission, Room 820, 4330 East West Highway, Bethesda, MD 20814; telephone (301) 504-7923. For access to the docket to read background documents or comments received, go to http://www.regulations.gov.

FOR FURTHER INFORMATION CONTACT: Robert H. Squibb, Consumer Product Safety Commission, 4330 East West Highway, Bethesda, MD 20814; (301) 504-7815, or by email to: rsquibb@cpsc.gov.

SUPPLEMENTARY INFORMATION: On February 4, 2013, the Commission provided an opportunity for public comment on a proposed collection of information on the effectiveness of product registration cards in facilitating product recalls (78 FR 7761). No comments were received. In compliance with 44 U.S.C. 3507, the CPSC has submitted the following proposed collection of information to the OMB for review and clearance: Registration Card Effectiveness Survey. The Danny Keysar Child Product Safety Notification Act, Section 104 of the Consumer Product Safety Improvement Act of 2008 (CPSIA), requires durable infant or toddler product manufacturers to provide product registration cards with each product sold. The Commission established product registration card requirements for consumer registration of durable infant or toddler products under 16 CFR part 1130. Section 104(d)(4) also requires the Commission to prepare a report of the effectiveness of product registration cards in facilitating product recalls, which is to be presented to the appropriate congressional committees. 15 U.S.C. 2056a(d)(4).

To prepare the report to Congress, CPSC staff will conduct a survey that will be sent out to infant or toddler product manufacturers who have conducted recalls since June 28, 2010, the date when the final rule concerning product registration cards went into effect. The survey seeks information about the recall, how many consumers registered their products, and how many consumers the firm attempted to contact about the recall. A copy of the draft survey may be viewed on: http://www.regulations.gov under Docket No. CPSC-2013-0005, Supporting and Related Material. The report will aggregate the information received from the manufacturers to assess the effectiveness of product registration cards in facilitating product recalls.

The average estimated time required for each manufacturer to complete the survey is 1 hour. The survey will be distributed to a maximum of 50 manufacturers, creating a maximum estimated burden across manufacturers of 50 hours. CPSC staff estimates that the hourly compensation for the time required to complete the survey is $27.55 (U.S. Bureau of Labor Statistics, “Employer Costs for Employee Compensation,” March 2012, Table 9, total compensation for all sales and office workers in goods-producing private industries: http://www.bls.gov/ncs/). Therefore, the estimated total combined annual cost for all surveyed manufacturers associated with the proposed requirements is $1,377.50 ($27.55 per hour × 50 hours = $1,377.50). The estimated cost of the information collection to the federal government is approximately $2,068, which includes 25 CPSC staff hours to examine and evaluate the information.

Dated: May 8, 2013.
Todd A. Stevenson,
Secretary, Consumer Product Safety Commission .

[FR Doc. 2013-11236 Filed 5-10-13; 8:45 am]

BILLING CODE 6355-01-P